CONSUMER PRODUCT SAFETY COMMISSION

Sunshine Act Meeting

TIME AND DATE: Wednesday, November 8, 2023—10 a.m.

PLACE: Room 420, Bethesda Towers, 4330 East West Highway, Bethesda, MD.

STATUS: Commission Meeting—Open to the Public.

MATTERS TO BE CONSIDERED: Decisional Matter: FY24 Operating Plan.

A live webcast of the meeting can be viewed at the following link: https://cpsc.webex.com/cpsc/j.php?MTID=mb0c2a231d7aa95760a62dfa8f6b9d1c1.

CONTACT PERSON FOR MORE INFORMATION: Alberta E. Mills, Office of the Secretary, U.S. Consumer Product Safety Commission, 4330 East West Highway, Bethesda, MD 20814, 301-504-7479 (Office) or 240-863-8938 (Cell).

Dated: October 31, 2023.
Elina Lingappa,
Paralegal Specialist.

[FR Doc. 2023-24379 Filed 10-31-23; 4:15 pm]

BILLING CODE 6355-01-P